DEPARTMENT OF TRANSPORTATION

Pipeline and Hazardous Materials Safety Administration

[Docket No. PHMSA-2019-0224; Notice No. 2024-07]

Hazardous Materials: Notice of Public Meetings in 2024 for International Standards on the Transport of Dangerous Goods

AGENCY: Pipeline and Hazardous Materials Safety Administration (PHMSA), Office of Hazardous Materials Safety, Department of Transportation (DOT).

ACTION: Notice of 2024 public meetings.

SUMMARY: This notice announces that PHMSA's Office of Hazardous Materials Safety will host three public meetings during 2024 in advance of certain international meetings. The first meeting will be held in preparation of the 64th session of the United Nations Sub-Committee of Experts on the Transport of Dangerous Goods (UNSCOE TDG) scheduled for June 24-July 3, 2024, in Geneva, Switzerland. The second meeting will be held in preparation of the International Civil Aviation Organization's (ICAO) Dangerous Goods Panel (DGP) Working Group 24 (WG/24) tentatively scheduled for October 2024 in Montreal, Canada. The third meeting will be held in preparation of the 65th session of the UNSCOE TDG scheduled for November 25-December 3, 2024, in Geneva, Switzerland. For each of these meetings, PHMSA will solicit public input on current proposals.

Time and Location: Each public meeting will take place approximately two weeks preceding the international meeting at DOT Headquarters, West Building, 1200 New Jersey Avenue SE, Washington, DC 20590-0001. A remote participation option will also be available. Specific information for each meeting will be posted when available on the PHMSA website at www.phmsa.dot.gov/international-program/international-program-overview under “Upcoming Events.” This information will include the public meeting date, time, remote access login, conference dial-in number, and details for advance registration.

FOR FURTHER INFORMATION CONTACT: Steven Webb or Aaron Wiener, PHMSA, U.S. Department of Transportation, by phone at 202-366-8553.

SUPPLEMENTARY INFORMATION: This notice is published under the authority of Federal Hazardous Materials Transportation Law (49 U.S.C. 5101 et seq.). Section 49 U.S.C. 5120 authorizes the Secretary to consult with interested international authorities to ensure that, to the extent practicable, regulations governing the transportation of hazardous materials in commerce are consistent with the standards adopted by international authorities. The Secretary has delegated the authority granted in the Federal Hazardous Materials Transportation Law to the PHMSA Administrator at 49 CFR 1.97(b).

The purpose of PHMSA's public meetings held in advance of certain international meetings is to allow the public to give input on the current proposals being considered by the international standards setting bodies.

The 64th and 65th sessions of the UNSCOE TDG will represent the third and fourth meetings scheduled for the 2023-2024 biennium. The UNSCOE TDG will consider proposals for the 24th Revised Edition of the United Nations Recommendations on the Transport of Dangerous Goods: Model Regulations (Model Regulations), which may be implemented into relevant domestic, regional, and international regulations starting January 1, 2027. Copies of working documents, informal documents, the agenda, and the post-meeting final report may be obtained from the United Nations Transport Division's website at www.unece.org/trans/danger/danger.html.

The ICAO DGP-WG/24 meeting will represent the first meeting of the 2024-2025 biennium. The ICAO DGP will consider proposals for the 2027-2028 edition of the Technical Instructions for the Safe Transport of Dangerous Goods by Air (Doc 9284). Copies of working papers, information papers, the agenda, and the post-meeting final report may be obtained from the ICAO DGP website at www.icao.int/safety/DangerousGoods/Pages/DGPMeetings.aspx.

Signed in Washington, DC.
William S. Schoonover,
Associate Administrator for Hazardous Materials Safety, Pipeline and Hazardous Materials Safety Administration.

[FR Doc. 2024-08788 Filed 4-23-24; 8:45 am]

BILLING CODE 4910-60-P